DEPARTMENT OF AGRICULTURE

Solicitation of Nominations for Membership for the West Virginia Resource Advisory Committee

AGENCY: Department of Agriculture (USDA).

ACTION: Notice of solicitation of nominations for membership.

SUMMARY: In accordance with the Secure Rural Schools (SRS) and Community Self-Determination Act of 2000 as amended, codified in Agricultural Improvement Act of 2018, and the Federal Advisory Committee Act (FACA), as amended, the United States Department of Agriculture is seeking nominations of qualified candidates to be considered for the West Virginia Resource Advisory Committee (RAC). The West Virginia RAC will advise the Secretary of Agriculture on proposed recommendations and other such matters as the Secretary determines. The West Virginia RAC will be governed by the provisions of FACA. Duration of the West Virginia RAC is for two years unless renewed by the Secretary of Agriculture.

DATES: Nominations must be submitted via email or postmarked by June 30, 2024. The package must be sent to the address listed in FOR FURTHER INFORMATION CONTACT. Criteria for a completed package can be found in Nomination and Application Information Below.

ADDRESSES: Please submit nominations and resumes may be submitted to the Secretary of Agriculture through Kristopher Hennig, Monongahela National Forest, Partnership Coordinator, 200 Sycamore Street, Elkins, WV 26241 or email at 2146ristopher.hennig@usda.gov.

FOR FURTHER INFORMATION CONTACT: Inquiries may be sent to Kristopher Hennig, Forest Supervisor's Office, 200 Sycamore Street, Elkins, WV 26241, by Phone at (304) 940-3317, or by email at kristopher.hennig@usda.gov.

SUPPLEMENTARY INFORMATION:

Background

Public Law of Secure Rural Schools and Community Self-Determination Act of 2000, as amended, 16 U.S.C. 7125, directs the Secretary of Agriculture to create Secure Rural Schools Resource Advisory Committees (SRS RAC) to provide advice and recommendations to the Forest Service concerning projects and funding consistent with SRS Title II of the Act. Pursuant to 16 U.S.C 7125 and the Federal Advisory Committee Act, 5 U.S.C. 10, notice is hereby given that the Secretary of Agriculture is seeking nominations of qualified candidates to be considered for the West Virginia RAC. Additional information on the West Virginia RAC can be found by visiting the following website at: https://www.fs.usda.gov/main/mnf/workingtogether/advisorycommittees.

The Act describes the duties of the committee as follows: to review projects proposed by counties and other interested parties; to recommend projects and funding; to provide early and continuous coordination with Forest Service officials; to provide frequent opportunities for citizens, organizations, tribes, land management agencies and other interested parties to participate openly and meaningfully, beginning in the early stages of project development; to monitor projects approved under the Act; to advise the designated federal official on the progress of monitoring; and to make recommendations for any appropriate changes or adjustments to projects being monitored.

Meetings for the SRS RAC's will be published on the Federal Register website at least 15 days prior to the meeting date at: www.federalregister.gov.

Membership Balance

The SRS RACs will be comprised of 15 members approved by the Secretary of Agriculture (or designee) where each will serve a 4-year term. SRS RACs memberships will be balanced in terms of the points of view represented and functions to be performed. The SRS RACs shall include representation from the following interest areas:

(1) Five persons who represent:

(a) Organized Labor or Non-Timber Forest Product Harvester Groups,

(b) Developed Outdoor Recreation, Off Highway Vehicle Users, or Commercial Recreation Activities,

(c) Energy and Mineral Development, or Commercial or Recreational Fishing Interests,

(d) Commercial Timber Industry, or

(e) Federal Grazing or Other Land Use Permits, or Represent Non-Industrial Private Forest Landowners, within the area for which the committee is organized.

(2) Five persons who represent:

(a) Nationally Recognized Environmental Organizations,

(b) Regionally or Locally Recognized Environmental Organizations,

(c) Dispersed Recreational Activities,

(d) Archaeological and Historical Interests, or

(e) Nationally or Regionally Recognized Wild Horse and Burro Interest Groups, Wildlife or Hunting Organizations, or Watershed Associations.

(3) Five persons who represent:

(a) State Elected Office (or a designee),

(b) County or Local Elected Office,

(c) American Indian Tribes within or adjacent to the area for which the committee is organized,

(d) Area School Officials or Teachers, or

(e) Affected Public at Large.

Of these members, one will become the Chairperson who is recognized for their ability to lead a group in a fair and focused manner and who has been briefed on the mission of the RAC. A chairperson is selected by a majority of RAC members. The Committee will meet on an annual basis or as needed and determined by the Agency. In the event that a vacancy arises, the Designated Federal Officer (DFO) may request the Secretary to fill the vacancy in the manner in which the original appointments were made. In accordance with the SRS Act, members of the SRS RAC shall serve without compensation. SRS RAC members may be allowed travel and per diem expenses for attendance at committee meetings, subject to approval of the DFO responsible for administrative support to the SRS RAC.

Nomination and Application Information

The appointment of members to the SRS RACs will be made by the Secretary of Agriculture. The public is invited to submit nominations for membership on the SRS RACs, either as a self-nomination or a nomination of any qualified and interested person. Any individual or organization may nominate one or more qualified persons to represent the interest areas listed above.

Individuals who wish to be considered for membership on the West Virginia Secure Rural Schools Advisory Committee must submit a nomination with information, including a Form AD-755 (Advisory Committee or Research and Promotion Background Information). Nominations should be typed and include the following:

If nominating an individual, a brief summary, no more than two pages, explaining the nominee's qualifications to serve on the Secure Rural Schools Advisory Committee and addressing the membership composition and criteria described above.

(a) A resume providing the nominee's background, experience, and educational qualifications.

(b) A completed Form AD-755, Advisory Committee or Research and Promotion Background Information. The form can be downloaded by visiting the following website https://www.usda.gov/sites/default/files/documents/ad755.pdf.

(c) Letters of endorsement are required for certain representations.

Persons with disabilities who require alternative means of communication for program information (for example., Braille, large print, audiotape, American Sign Language, etc.) should contact the responsible Agency or USDA's TARGET Center at (202) 720-2600 (voice and TTY) or contact USDA through the Federal Relay Service at (800) 877-8339. Additionally, program information may be made available in languages other than English.

Equal opportunity practices in accordance with USDA policies shall be followed in all appointments to the SRS RACs. To ensure that the recommendations of the SRS RACs have taken into account the needs of the diverse groups served by USDA, membership will, to the extent practicable, include individuals with demonstrated ability to represent all racial and ethnic groups, women and men, and persons with disabilities.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Dated: April 23, 2024.
Cikena Reid,
USDA Committee Management Officer.

[FR Doc. 2024-09085 Filed 4-26-24; 8:45 am]

BILLING CODE 3411-15-P